DEPARTMENT OF AGRICULTURE

Federal Crop Insurance Corporation

7 CFR Part 457

RIN 0563-AB80

Common Crop Insurance Regulations; Nursery Crop Insurance Provisions

AGENCY: Federal Crop Insurance Corporation, USDA.

ACTION: Proposed rule; extension of comment period.

SUMMARY: The Federal Crop Insurance Corporation (FCIC) is extending the comment period for the proposed rule to amend the Nursery Crop Insurance Provisions. The proposed rule was published in the Federal Register on August 9, 2004, (69 FR 48166) and the comment period was scheduled to end on October 8, 2004. The comment period will be extended 45 days and will now end on November 22, 2004.

DATES: Written comments and opinions on this proposed rule will be accepted until close of business November 22, 2004, and will be considered when the rule is to be made final.

ADDRESSES: Interested persons are invited to submit written comments to the Director, Product Development Division, Federal Crop Insurance Corporation, United States Department of Agriculture, 6501 Beacon Drive, Stop 0812, Kansas City, MO 64133. Comments titled Nursery Crop Insurance Provisions may be sent via the Internet to DirectorPDD@rm.fcic.usda.gov, or the Federal eRulemaking Portal: http://www.regulations.gov. Follow the online instructions for submitting comments. A copy of each response will be available for public inspection and copying from 7 a.m. to 4:30 p.m., CST, Monday through Friday, except holidays, at the above address.

FOR FURTHER INFORMATION CONTACT: Stephen Hoy, Risk Management Specialist, Research and Development, Product Development Division, Federal Crop Insurance Corporation, at the Kansas City, MO, address listed above, telephone (816) 926-7730.

SUPPLEMENTARY INFORMATION: On August 9, 2004, FCIC published in the Federal Register (69 FR 48166) a proposed rule to amend the Nursery Crop Insurance Provisions and Nursery Peak Inventory Endorsement to improve coverage of nursery plants. FCIC also proposed to add a Rehabilitation Endorsement for Field grown plants that will recover from an insured cause of loss. FCIC provided a 60-day comment period that is scheduled to end October 8, 2004. Due to the hurricanes and subsequent inclement weather in the southeast and eastern United States, FCIC is extending the comment period an additional 45 days to ensure the public has an adequate opportunity to review and comment on the proposed rule. The comment period for the proposed rule is extended to November 22, 2004.

Signed in Washington, DC, on October 5, 2004.
Ross J. Davidson, Jr.,
Manager, Federal Crop Insurance Corporation.

[FR Doc. 04-22740 Filed 10-7-04; 8:45 am]

BILLING CODE 3410-08-P